NUCLEAR REGULATORY COMMISSION

Agency Information Collection Activities: Proposed Collection; Comment Request

AGENCY: U.S. Nuclear Regulatory Commission (NRC).

ACTION: Notice of pending NRC action to submit an information collection request to OMB and solicitation of public comment.

SUMMARY: The NRC is preparing a submittal to OMB for review of continued approval of information collections under the provisions of the Paperwork Reduction Act of 1995 (44 U.S.C. Chapter 35).

Information pertaining to the requirement to be submitted:

1. The title of the information collection: Design Information Questionnaire-IAEA-N-71 and associated Forms N-72, N-73, N-74, N-75, N-91, N-92, N-93, N-94.

2. Current OMB approval number: 3150-0056.

3. How often the collection is required: Approximately 1 time annually.

4. Who is required or asked to report: Licensees of facilities on the U.S. eligible list who have been notified in writing by the Commission to submit the form.

5. The number of annual respondents: 1.

6. The number of hours needed annually to complete the requirement or request: 360 reporting hours (360 hours per response).

7. Abstract: Licensees of facilities that appear on the U.S. eligible list, pursuant to the US/IAEA Safeguards Agreement, and who have been notified in writing by the Commission, are required to complete and submit a Design Information Questionnaire, IAEA Form N-71 (and the appropriate associated IAEA Form) or Form N-91, to provide information concerning their installation for use of the International Atomic Energy Agency.

Submit, by May 10, 2005, comments that address the following questions:

1. Is the proposed collection of information necessary for the NRC to properly perform its functions? Does the information have practical utility?

2. Is the burden estimate accurate?

3. Is there a way to enhance the quality, utility, and clarity of the information to be collected?

4. How can the burden of the information collection be minimized, including the use of automated collection techniques or other forms of information technology?

A copy of the draft supporting statement may be viewed free of charge at the NRC Public Document Room located at One White Flint North, 11555 Rockville Pike, Room O-1 F21, Rockville, MD. OMB clearance requests are available at the NRC worldwide Web site (http://www.nrc.gov/public-involve/doc-comment/omb/index.html). The document will be available on the NRC home page site for 60 days after the signature date of this notice.

Comments and questions about the information collection requirements may be directed to the NRC Clearance Officer, Brenda Jo. Shelton, U.S. Nuclear Regulatory Commission, T-5 F53, Washington, DC 20555-0001, by telephone at (301) 415-7233, or by Internet electronic mail at INFOCOLLECTS@NRC.GOV.

Dated in Rockville, Maryland, this 3rd day of March, 2005.
For the Nuclear Regulatory Commission.
Brenda Jo. Shelton,
NRC Clearance Officer, Office of Information Services.

[FR Doc. 05-4793 Filed 3-10-05; 8:45 am]

BILLING CODE 7590-01-P